DEPARTMENT OF TRANSPORTATION

Surface Transportation Board

[STB Finance Docket No. 34987]

G. David Crane—Continuance in Control Exemption—Ashland Railroad, Inc.

G. David Crane (applicant) has filed a verified notice of exemption to continue in control of Ashland Railroad, Inc. (ASRR), upon ASRR's becoming a Class III rail carrier.

The earliest this transaction may be consummated is the March 1, 2007 effective date of the exemption (30 days after the exemption was filed).

This transaction is related to the concurrently filed notice of exemption in STB Finance Docket No. 34986, Ashland Railroad, Inc.—Lease and Operation Exemption—Rail Line in Monmouth County, NJ. In that proceeding, ASRR seeks to lease and operate approximately 1.5 miles of rail line owned by Grems-Kirk Railway, LLC, a noncarrier, in the Township of Freehold, in Monmouth County, NJ. ASRR will provide common carrier rail operations over the line and interchange with Consolidated Rail Corporation at Freehold on behalf of CSX Transportation, Inc. and Norfolk Southern Railway Company.

Applicant is a noncarrier and currently is the controlling stockholder in Ashland Railway, Inc. (ASRY), a Class II rail carrier.

Applicant states that: (1) The rail lines being operated by ASRY do not connect with the rail line to be leased and operated by ASRR; (2) the continuance in control is not part of a series of anticipated transactions that would connect the rail line to be leased and operated by ASRR with any railroad in applicant's corporate family; and (3) the transaction does not involve a Class I railroad. Therefore, the transaction is exempt from the prior approval requirements of 49 U.S.C. 11323. See 49 CFR 1180.2(d)(2). The purpose of this transaction is to allow applicant to continue in control of ASRY and to control ASRR after it becomes a Class III rail carrier.

Under 49 U.S.C. 10502(g), the Board may not use its exemption authority to relieve a rail carrier of its statutory obligation to protect the interests of its employees. Because the transaction involves the control of one Class II and a Class III rail carrier, the exemption is subject to the labor protection requirements of 49 U.S.C. 11326(b).

If the notice contains false or misleading information, the exemption is void ab initio. Petitions to revoke the exemption under 49 U.S.C. 10502(d) may be filed at any time. The filing of a petition to revoke will not automatically stay the effectiveness of the exemption. Petitions for stay must be filed no later than February 22, 2007 (at least 7 days before the exemption becomes effective).

An original and 10 copies of all pleadings, referring to STB Finance Docket No. 34987, must be filed with the Surface Transportation Board, 1925 K Street, NW., Washington, DC 20423-0001. In addition, one copy of each pleading must be served on John K. Fiorilla, Capehart & Scatchard, P.A., 8000 Midlantic Drive, Suite 300S, Mt. Laurel, NJ 08054.

Board decisions and notices are available on our Web site at http://www.stb.dot.gov.

Decided: February 6, 2007.
By the Board, David M. Konschnik, Director, Office of Proceedings.
Vernon A. Williams,
Secretary.

[FR Doc. E7-2322 Filed 2-13-07; 8:45 am]

BILLING CODE 4915-01-P